DEPARTMENT OF COMMERCE

National Oceanic and Atmospheric Administration

50 CFR Part 648

[Docket No. 250424-0072]

RIN 0648-BN64

Magnuson-Stevens Fishery Conservation and Management Act Provisions; Fisheries of the Northeastern United States; Northeast Multispecies Fishery; Fishing Year 2025 Measures

AGENCY: National Marine Fisheries Service (NMFS), National Oceanic and Atmospheric Administration (NOAA), Commerce.

ACTION: Temporary rule; emergency action; request for comments.

SUMMARY: This temporary rule implements emergency measures under the authority of the Magnuson-Stevens Fishery Conservation and Management Act (Magnuson-Stevens Act) to revise portions of the fishing year 2025 provisions in the Northeast Multispecies Fishery Management Plan (FMP). This action is necessary to address an emergency presented by a gap of approved specifications and other measures for fishing year 2025, based on the most recent fisheries data and scientific information, during consideration of two actions to the amend the FMP that would transition conservation and management of Atlantic cod from two biological stock units to four biological stock units. This temporary rule is intended to mitigate economic harm to the Northeast multispecies fishery participants by establishing fish stock quotas and related measures that allow the fishery to operate while preventing overfishing.

DATES: This action is effective May 1, 2025, through October 28, 2025. Comments must be received by June 2, 2025.

ADDRESSES: NMFS developed a Supplemental Impact Report (SIR) for the Environmental Assessments (EA) for Framework Adjustments 65 and 66 to the Northeast Multispecies FMP that describes the impact that the measures in this temporary rule would have on the human environment. Copies of the SIR and the Regulatory Impact Review of this rulemaking are available on the internet at: https://www.fisheries.noaa.gov/region/new-england-mid-atlantic. Copies of each sector's operations plan and contracts for fishing years 2025-2026; the Sector Operations Plan, Contract, and EA requirements guidance document for fishing years 2025-2026; and other supporting documents are available from the NMFS Greater Atlantic Regional Fisheries Office website at: https://www.fisheries.noaa.gov/region/new-england-mid-atlantic. Copies of supporting sector documents are available from Heather Nelson at heather.nelson@noaa.gov. Copies of Amendment 25 to the Northeast Multispecies FMP and the EAs for Framework Adjustments 65, 66, and 69 are available from Dr. Cate O'Keefe, Executive Director, New England Fishery Management Council, 50 Water Street, Mill 2, Newburyport, MA 01950. The Council's documents are also accessible via the internet at: http://www.nefmc.org/management-plans/northeast-multispecies or http://www.regulations.gov.

You may submit comments on this document, identified by NOAA-NMFS-2025-0020, by the following method:

• Electronic Submission: Submit all electronic public comments via the Federal e-Rulemaking Portal. Visit https://www.regulations.gov and type NOAA-NMFS-2025-0020 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Mark Grant, Fishery Policy Analyst, phone: 978-281-9145; email: Mark.Grant@noaa.gov.

SUPPLEMENTARY INFORMATION:

Summary of Measures

This action temporarily implements management measures to revise some fishing year 2025 provisions in the Northeast Multispecies FMP. This action establishes annual catch limits (ACL) and total allowable catches (TAC), and approves Northeast multispecies sector operations plans and sector allocations that will allow the fishery to operate during the 2025 fishing year (beginning May 1, 2025). These and several other measures are necessary to address the potential for serious conservation and management problems by ensuring that the fishery can operate beginning May 1, 2025, without causing overfishing.

The New England Fishery Management Council (Council) has transmitted Amendment 25 to the Northeast Multispecies FMP (Amendment 25) to the Secretary of Commerce for review (90 FR 11246, March 5, 2025). If approved, Amendment 25 would revise the stocks of Atlantic cod managed in the Northeast Multispecies FMP. That action was developed to incorporate the best scientific information available into the FMP. The intended effect of Amendment 25 is to revise the FMP to manage Atlantic cod in U.S. waters as four stocks rather than two. The Council has also submitted Framework Adjustment 69 to the Northeast Multispecies FMP (Framework 69) to NMFS for review. If Amendment 25 is approved, Framework 69 would be necessary to respond to updated scientific information and to achieve the goals and objectives of the FMP, as well as implementing other measures that are intended to help prevent overfishing, rebuild overfished stocks, achieve optimum yield, and ensure that management measures are based on the best scientific information available.

To ensure that the fishery can operate beginning May 1, 2025, without causing overfishing, this temporary rule:

• Sets fishing year 2025 ACLs for Gulf of Maine (GOM) cod, Georges Bank (GB) cod, and GB haddock;

• Sets fishing year 2025 TACs for Eastern GB cod and Eastern GB haddock that are shared stocks between the United States and Canada;

• Confirms projected fishing year 2025 specifications for other Northeast multispecies stocks that were previously published in Framework Adjustments 65 and 66 (88 FR 56527, August 18, 2023; 89 FR 35755, May 2, 2024, respectively);

• Approves Northeast multispecies sector operations plans and allocates annual catch entitlements (ACE) to the sectors;

• Prohibits recreational fishing vessels from possessing GB cod;

• Prohibits commercial fishing vessels fishing under the common pool management program from possessing GB cod; and

• Sets trimester TACs and possession limits for commercial vessels fishing under the common pool management program.

Background

This action is necessary to address an emergency arising from the gap of approved specifications and other measures for fishing year 2025, based on the most recent scientific information, stemming from the transition from two stocks of Atlantic cod to four stocks, which is the subject of Amendment 25 and Framework 69. This action allows for completion of the normal rulemaking process for Amendment 25 and Framework 69 without prejudicing an approval or disapproval determination of those actions. The actions recommended by the Council in Amendment 25 and Framework 69 will not be able to proceed through the notice and comment rulemaking process toward approval or disapproval prior to the beginning of the Northeast multispecies fishing year on May 1, 2025. Absent this emergency action, the lack of measures to facilitate commercial and recreational fishing that are based on the most recent scientific information and that are effective on May 1, 2025, would create severe economic harm to the Northeast multispecies fishery participants. Without implementation of specifications and their accompanying allocations for the 2025 fishing year, as provided in this emergency action, there would be no allocations for GOM cod and GB cod, which would prevent commercial and recreational fishery access to Atlantic cod and other groundfish species.

NMFS recognizes that the delay in full consideration of Amendment 25 and Framework 69 prevents a decision and full implementation of these actions before May 1, 2025. This emergency rule ensures that the fishery can operate at the start of the fishing year on May 1 in an efficient manner consistent with scientifically based management measures that are necessary for preventing overfishing and achieving optimum yield. NMFS also recognizes that fully transitioning management from two stock units of cod to the four stock units proposed in Amendment 25 in the middle of the fishing year would create significant administrative challenges and disruptions to NMFS, the sectors, and fishery participants. Therefore, although NMFS has not yet made a decision to approve, disapprove, or partially approve Amendment 25 or Framework 69, should the Amendment be approved before then, NMFS does not intend to implement the management transition to the proposed four stocks of cod until May 1, 2026. If Amendment 25 and Framework 69 are fully approved, NMFS would work with the Council to ensure a complete and effective transition to four stocks for the 2026 fishing year.

This action is intended to mitigate significant economic harm and prevent overfishing by establishing ACLs, approving Northeast multispecies sector operations plans and allocating ACEs that allow the sector fishery to operate during the 2025 fishing year, and setting recreational and commercial common pool trip limits and prohibitions necessary to prevent overfishing. Without these provisions, vessels enrolled in sectors (responsible for 96 percent of commercial groundfish catch) would be unable to fish during the 2025 fishing year, which would result in substantial adverse economic impacts on vessel owners and operators, dealers, and the fishing communities that rely on them. Recreational fishery and commercial common pool measures in this action are necessary to allow those fisheries to operate while preventing overfishing of Atlantic cod. These temporary measures are designed to allow fishing beginning on May 1 under conditions that afford the time necessary to consider comments submitted on whether to approve or disapprove Amendment 25 and Framework 69 without prejudicing NMFS' determinations. Comments for either Amendment 25 of Framework 69 may be submitted for consideration as instructed under those actions. A full discussion of the justification of this emergency action follows a description of this action's measures.

Atlantic Cod Stocks

On March 5, 2025, NMFS published a Notice of Availability for Amendment 25 (90 FR 11246) and provided a 60-day comment period through May 5, 2025, consistent with the Magnuson-Stevens Act. Amendment 25 recommends revising the Northeast Multispecies FMP to include four cod biological stock units: Eastern GOM (EGOM) cod; Western GOM (WGOM) cod; GB cod; and Southern New England (SNE) cod.

The Council developed Framework 69 in coordination with Amendment 25 to specify status determination criteria (SDC), overfishing limits (OFL), acceptable biological catches (ABC), and ACLs; and include other management measures for each of the four new cod stocks. In December 2024, the Council adopted Framework Adjustment 69 to the Northeast Multispecies FMP to recommend to NMFS the annual specifications for fishing year 2025.

While NMFS is reviewing Amendment 25 and Framework 69, the Northeast Multispecies FMP continues to include two cod stocks: GOM cod and GB cod. There are no approved specifications for the existing two stocks of Atlantic cod for 2025. In the absence of specifications, the Northeast Multispecies FMP includes provisions, at 50 CFR 648.90(a)(3), for setting default specifications for up to 6 months. The default measures are designed to prevent overfishing while achieving optimum yield on a continuing basis by temporarily allowing fishing to occur at levels that are expected to prevent overfishing until more permanent levels are implemented. To that end, the default catch limits are set at the lesser of 75 percent of the previous year's specifications or the Council's recommended specifications for the current year.

An exact comparison between 75 percent of last fishing year's (2024) U.S. ABCs for GB cod and GOM cod and the Council's recommended U.S. ABCs for EGOM cod, WGOM cod, SNE cod, and the new GB cod is not possible. However, NMFS compared 75 percent of the U.S. ABC for 2024 GOM cod (413 mt) to the Council's recommended 2025 U.S. ABCs for EGOM (48 mt) and WGOM (387), and 75 percent of the U.S. ABC for 2024 GB cod (401 mt) to the Council's recommended 2025 U.S. ABCs for SNE cod (22mt) and the new GB cod (397 mt). The default allocations of 75 percent would exceed the Council's recommended U.S. ABC for the proposed four stocks of Atlantic cod in Framework 69, and the default allocations of 75 percent would also exceed the Council's recommended 2025 U.S. ABCs when converted to the current two stocks (see table 1). The overall cod catch, when the four cod U.S. ABCs recommended by the Council are combined and allocated to GOM cod and GB cod, represents a 50-percent reduction in cod quotas overall from the 2024 fishing year for the two cod stocks. The Council's recommended 2025 limits are based on the best scientific information available and reflect the biological conditions of the four stocks and the levels of catch that are expected to prevent overfishing. To ensure this action prevents overfishing while it is in effect, and to be consistent with the Northeast Multispecies FMP's default specification provisions, in this action NMFS is setting fishing year 2025 specifications for the existing GB cod and GOM cod stocks based on an application of the Council-recommended four Atlantic cod ABCs.

The Council's recommended limits incorporate an apportionment of catch history (for the purpose of allocating the commercial sub-ACLs) from the two stocks to the four that approximates the commercial fishery's operations under two stocks. In this action, NMFS applies the Council-recommended apportionment method to derive two ABCs for Atlantic cod. The apportionment for GOM cod in this emergency action includes the Council's recommended EGOM ABC, 68 percent of the Council's recommended WGOM commercial ABC, and 100 percent of the Council's recommended WGOM recreational ABC. The GB cod quota in this emergency action includes the Council's recommended SNE cod ABC, the Council's recommended GB cod ABC, and 32 percent of the Council's recommended WGOM commercial ABC (this excludes the recreational portion of the WGOM total ABC). This calculation results in 2025 U.S. ABCs of 345 mt for GOM cod and 194 mt for GB cod (see table 1).

Table 1—2025 Atlantic Cod Quotas Calculated Using Council's Recommendations in Framework 69
Stock | U.S. ABC- 4 stocks | Commercial sub-ABC | Apportionment (%) | Dividend commercial sub-ABC | Recreational sub-ABC | U.S. ABC- 2 stocks | Total ABC | Stock
EGOM Cod | 48 |  |  |  |  | 345 | 345 | GOM cod.
WGOM Cod | 387 | 281 | 68 | 191 | 106
|  |  | 32 | 90 |  | 194 | 509 | GB cod.
GB Cod | 82 |  |  |  |
SNE Cod | 22 |  |  |  |

Prohibition of GB Cod Possession by Recreational Vessels

This action prohibits possession of GB cod by recreational vessels. The Northeast Multispecies FMP includes recreational sub-ACLs for GOM cod and GOM haddock. Recreational catch of GB cod would contribute to catch in the State Waters sub-component and the Other sub-component. The interim GB cod sub-components in this rule are very low at a combined 47 mt (103,617 lb), which cannot support a directed recreational cod fishery. The default recreational possession limit for GB cod is five fish per person per day, with a closed season from June 1 through August 31. Prohibiting possession of GB cod by private recreational vessels and for-hire recreational vessels is necessary to prevent overfishing of GB cod.

Prohibition of GB Cod Possession by Commercial Vessels Fishing in the Common Pool

This action prohibits possession of GB cod by commercial vessels fishing in the common pool. The interim common pool sub-ACL for GB cod in this rule is extremely low at 4 mt (8,818 lb), which cannot support a directed common pool cod fishery. The default common pool possession limits range between 75 lb (34 kg) and 2,000 lb (907 kg) per day. Similar to the measure described above for the recreational fishery, prohibiting commercial possession of GB cod by common pool vessels is necessary to prevent overfishing of GB cod.

GB Haddock

This action temporarily sets the 2025 U.S. ABC for GB haddock at 1,556 mt, consistent with the Council's recommendation in Framework 69, to prevent overfishing. Framework 66 set the GB haddock catch limit for fishing year 2025 based on stock assessments completed in 2023. However, a new stock assessment completed in 2024 resulted in the Council recommending a new 2025 U.S. ABC in Framework 69 that is 78 percent lower than the U.S. ABC previously projected for 2025 (1,556 mt vs. 7,058 mt). The U.S. ABC for 2025 projected in Framework 66 (7,058 mt) is only 12 percent less than the overfishing limit (8,034 mt) identified in the 2024 assessment. The Canadian share of the 2025 total ABC is 5,854 mt, based on the U.S./Canada process described below; therefore, in combination with Canadian catch, maintaining the U.S. ABC projected by Framework 66 for fishing year 2025 could allow overfishing and must be changed, at least temporarily, by this emergency action to prevent overfishing while providing an opportunity for full consideration of Framework 69 measures and public comments.

Fishing Year 2025 Shared U.S./Canada Quotas

Consistent with setting ABCs for GB cod and GB haddock, this action also temporarily sets new TACs for two of the U.S./Canada stocks: Eastern GB cod and Eastern GB haddock (see table 2). The TAC for Eastern GB haddock is consistent with the recommendations of the joint U.S./Canada Transboundary Management Guidance Committee (TMGC) that recommends shared quotas for transboundary stocks each year. The TMGC did not come to an agreement on a shared quota for Eastern GB cod, but, in Framework 69, the Council adopted a TAC for the U.S. fishery that would remain under the ABC for GB cod after accounting for estimated Canadian catch. This emergency action implements the same TACs as the Council recommended in Framework 69. Although GB yellowtail flounder is also within the process of setting catch limits for U.S./Canada shared stocks, NMFS is not including GB yellowtail flounder in this action, because the catch limits implemented by Framework 66 for fishing year 2025 would not allow overfishing.

Table 2—2025 Fishing Year U.S./Canada Quotas (mt, Live Weight) and Percent of Quota Allocated to Each Country
Quota | Eastern GB cod | Eastern GB haddock | GB yellowtail flounder
Total Shared Quota | No agreement | 7,410 mt | 168 mt.
U.S. Quota | 82 mt | 1,556 mt (21 percent) | 71 mt (42 percent).
Canadian Quota | 370 mt (catch estimated to be 315 mt) | 5,854 mt (79 percent) | 97 mt (58 percent).

These 2025 U.S. quotas for Eastern GB cod and Eastern GB haddock would represent 46-percent and 50-percent decreases, respectively, compared to 2024. The GB yellowtail flounder is unchanged from 2024. For a more detailed discussion of the TMGC's 2025 catch advice, including a description of each country's quota share, see the TMGC's guidance document that is posted at: https://www.greateratlantic.fisheries.noaa.gov/.

Catch Limits for Fishing Year 2025

Summary of the 2025 Catch Limits

This action temporarily implements specifications for the remaining 17 stocks of Northeast multispecies for fishing year 2025 that were published in Frameworks 65 and 66, pending further consideration in Framework 69. Table 3 provides an overview of which framework set the catch limit for each stock, as well as when the stock was most recently assessed. Tables 4 through 9 show the catch limits for the 2025 fishing year, including the common pool trimester TACs for allocated stocks (except for SNE/Mid-Atlantic (MA) winter flounder) and incidental catch TACs for certain stocks of concern. A summary of the basis for how these catch limits were developed, including the distribution to the various fishery components, was provided in the Framework 65 and Framework 66 proposed rules (May 31, 2023, 88 FR 34810; and March 22, 2024, 89 FR 20412, respectively) and is not repeated here. While the catch limits for GB cod, GOM cod, and GB haddock are based on those proposed in Framework 69, the distribution of those catch limits to various fishery components is consistent with the process followed in Framework 66.

Table 3—Basis of Interim Catch Limits for May 1, 2025
Stock | Basis of catch limit: action | Basis of catch limit: assessment
GB Cod | Framework 69 (proposed and translated from 4 stocks to 2) | 2024
GOM Cod | Framework 69 (proposed and translated from 4 stocks to 2) | 2024
GB Haddock | Framework 69 (proposed) | 2024
GOM Haddock | Framework 66 (2024) | 2022
GB Yellowtail Flounder | Framework 66 (2024) | 2023
SNE/MA Yellowtail Flounder | Framework 65 (2023) | 2022
CC/GOM Yellowtail Flounder | Framework 65 (2023) | 2022
American Plaice | Framework 65 (2023) | 2022
Witch Flounder | Framework 65 (2023) | 2022
GB Winter Flounder | Framework 65 (2023) | 2022
GOM Winter Flounder | Framework 65 (2023) | 2022
SNE/MA Winter Flounder | Framework 65 (2023) | 2022
Redfish | Framework 66 (2024) | 2023
White Hake | Framework 66 (2024) | 2022
Pollock | Framework 65 (2023) | 2022
N Windowpane Flounder | Framework 66 (2024) | 2023
S Windowpane Flounder | Framework 66 (2024) | 2023
Ocean Pout | Framework 65 (2023) | 2022
Atlantic Halibut | Framework 66 (2024) | 2022
Atlantic Wolffish | Framework 65 (2023) | 2022
N = northern; S = southern; SNE/MA = Southern New England/Mid-Atlantic; CC/GOM = Cape Cod/Gulf of Maine.

Table 4—Interim Catch Limits for the 2025 Fishing Year
[Mt, live weight]
Stock | Total ACL | Groundfish sub-ACL | Sector sub-ACL | Common pool sub-ACL | Recreational sub-ACL | Midwater trawl fishery | Scallop fishery | Small- mesh fisheries | State waters sub- component | Other sub- component
| A to H | A + B + C | A | B | C | D | E | F | G | H
GB Cod | 186 | 140 | 136 | 4 |  |  |  |  | 16 | 31
GOM Cod | 327 | 297 | 170 | 6 | 120 |  |  |  | 30 | 0.0
GB Haddock | 1,478 | 1,449 | 1,415 | 34 |  | 29 |  |  | 0 | 0
GOM Haddock | 2,183 | 2,108 | 1,349 | 30 | 729 | 22 |  |  | 46 | 7.6
GB Yellowtail Flounder | 69 | 56 | 53 | 3.3 |  |  | 11.0 | 1.3 | 0.0 | 0.0
SNE/MA Yellowtail Flounder | 38 | 33 | 26 | 7.7 |  |  | 2.7 |  | 0.2 | 2.0
CC/GOM Yellowtail Flounder | 873 | 808 | 768 | 41 |  |  |  |  | 28 | 37
American Plaice | 5,009 | 4,957 | 4,819 | 138 |  |  |  |  | 26 | 26
Witch Flounder | 1,196 | 1,146 | 1,104 | 41 |  |  |  |  | 19 | 31
GB Winter Flounder | 1,446 | 1,431 | 1,389 | 42 |  |  |  |  | 0 | 15
GOM Winter Flounder | 772 | 607 | 525 | 82 |  |  |  |  | 153 | 12.1
SNE/MA Winter Flounder | 604 | 441 | 388 | 53 |  |  |  |  | 19 | 144
Redfish | 7,859 | 7,859 | 7,782 | 77 |  |  |  |  | 0 | 0
White Hake | 1,825 | 1,816 | 1,798 | 18 |  |  |  |  | 0 | 10
Pollock | 12,683 | 11,619 | 11,502 | 117 |  |  |  |  | 598 | 465
N Windowpane Flounder | 127 | 94 | n/a | 94 |  |  | 27 |  | 0.0 | 6.8
S Windowpane Flounder | 205 | 30 | n/a | 30 |  |  | 71 |  | 6.4 | 98
Ocean Pout | 83 | 49 | n/a | 49 |  |  |  |  | 0 | 34
Atlantic Halibut | 75 | 58 | n/a | 58 |  |  |  |  | 16 | 1.2
Atlantic Wolffish | 87 | 87 | n/a | 87 |  |  |  |  | 0 | 0
n/a: not allocated to sectors.

Table 5—Interim Fishing Year 2025 Common Pool Trimester TACs
[Mt, live weight]
Stock | 2025: Trimester 1 | 2025: Trimester 2 | 2025: Trimester 3
GB Cod | 1.1 | 1.4 | 1.6
GOM Cod | 3.1 | 2.1 | 1.1
GB Haddock | 9.2 | 11.2 | 13.6
GOM Haddock | 8.0 | 7.7 | 14.0
GB Yellowtail Flounder | 0.6 | 1.0 | 1.7
SNE/MA Yellowtail Flounder | 1.6 | 2.2 | 3.9
CC/GOM Yellowtail Flounder | 23.1 | 10.6 | 6.9
American Plaice | 101.9 | 11.0 | 24.8
Witch Flounder | 22.7 | 8.3 | 10.3
GB Winter Flounder | 3.4 | 10.2 | 28.8
GOM Winter Flounder | 30.4 | 31.2 | 20.6
Redfish | 19.2 | 23.8 | 33.8
White Hake | 6.8 | 5.5 | 5.5
Pollock | 32.8 | 41.0 | 43.3

Table 6—Interim Fishing Year 2025 Common Pool Incidental Catch TACs
[Mt, live weight]
Stock | Percentage of common pool sub-ACL | 2025
GB Cod | 1.68 | 0.07
GOM Cod | 1 | 0.06
GB Yellowtail Flounder | 2 | 0.07
CC/GOM Yellowtail Flounder | 1 | 0.41
American Plaice | 5 | 6.89
Witch Flounder | 5 | 2.07
SNE/MA Winter Flounder | 1 | 0.53

Table 7—Percentage of Incidental Catch TACs Distributed to Each Special Management Program
Stock | Regular B DAS program (percent) | Eastern U.S./CA haddock SAP (percent)
GB Cod | 60 | 40
GOM Cod | 100 | n/a
GB Yellowtail Flounder | 50 | 50
CC/GOM Yellowtail Flounder | 100 | n/a
American Plaice | 100 | n/a
Witch Flounder | 100 | n/a
SNE/MA Winter Flounder | 100 | n/a

Table 8—Interim Fishing Year 2025 Incidental Catch TACs for Each Special Management Program
[Mt, live weight]
Stock | Regular B DAS program | Eastern U.S./Canada haddock SAP
GB Cod | 0.04 | 0.03
GOM Cod | 0.06 | n/a
GB Yellowtail Flounder | 0.03 | 0.03
CC/GOM Yellowtail Flounder | 0.41 | n/a
American Plaice | 6.89 | n/a
Witch Flounder | 2.07 | n/a
SNE/MA Winter Flounder | 0.53 | n/a

Table 9—Interim Fishing Year 2025 Regular B DAS Program Quarterly Incidental Catch TACs
[Mt, live weight]
Stock | 2025: 1st quarter (13 percent) | 2025: 2nd quarter (29 percent) | 2025: 3rd quarter (29 percent) | 2025: 4th quarter (29 percent)
GB Cod | 0.01 | 0.01 | 0.01 | 0.01
GOM Cod | 0.01 | 0.02 | 0.02 | 0.02
GB Yellowtail Flounder | 0.00 | 0.01 | 0.01 | 0.01
CC/GOM Yellowtail Flounder | 0.05 | 0.12 | 0.12 | 0.12
American Plaice | 0.90 | 2.00 | 2.00 | 2.00
Witch Flounder | 0.27 | 0.60 | 0.60 | 0.60
SNE/MA Winter Flounder | 0.07 | 0.15 | 0.15 | 0.15

Sectors

Northeast Multispecies FMP regulations provide that the Regional Administrator may approve sector operations plans and allocate ACEs to allow sectors to operate in the fishery. This emergency action temporarily approves sectors' 2025-2026 operations plans for the Northeast Multispecies FMP on an interim basis for fishing year 2025. NMFS approved 15 sectors to operate in fishing years 2023 and 2024, (88 FR 26502, May 1, 2023; 89 FR 23941, April 5, 2024). Copies of the approved operations plans and contracts from fishing years 2023-2024 are available at: https://www.fisheries.noaa.gov/new-england-mid-atlantic/commercial-fishing/fishing-year-2024-sectors and from NMFS (see ADDRESSES). All 15 active sectors submitted operations plans and contracts for approval for fishing years 2025 and 2026. Sector exemptions are unchanged from fishing year 2024. This action temporarily approves measures submitted in these sector operations plans, including sector regulatory exemptions intended to provide additional operational flexibility, and at-sea monitoring (ASM) and electronic monitoring (EM) programs.

Regional Administrator approval is required for sectors to receive their ACE for specific groundfish stocks. This action allocates a share of each allocated groundfish stock to each sector based on its members' landings history. Without this action, ACEs would not be allocated and sectors, and the vessels enrolled in them, would not be able to fish in the groundfish fishery or use approved regulatory exemptions for the 2025 fishing year. Those vessels would be restricted to participating in other fisheries unless they opted to instead fish for the entire year under the common pool management measures for the groundfish fishery, which are more restrictive than the sector system. NMFS expects overall sector enrollment for fishing year 2025 to be similar to fishing years 2023 and 2024.

The Northeast Multispecies FMP defines a sector as a group of persons holding limited access Northeast multispecies permits who have voluntarily entered into a contract and agree to certain fishing restrictions for a specified period of time, and which has been granted ACEs in order to achieve objectives consistent with applicable Northeast Multispecies FMP goals and objectives. Sectors are self-selecting, meaning participation is voluntary, and each sector can choose its members.

The Northeast multispecies sector management system includes an annual allocation of available catch for a portion of the Northeast multispecies stocks to each approved sector. These annual sector allocations are known as ACE and are portions of a stock's ACL available to commercial Northeast multispecies sector vessels. A sector's ACE is based on the collective fishing history of the permits held by the sector's members. Sectors may receive allocations of large-mesh Northeast multispecies stocks, with the exception of Atlantic halibut, windowpane flounder, Atlantic wolffish, and ocean pout, which are non-allocated species managed under separate effort controls. A sector determines how to harvest its ACE. In addition to the sectors, there are several state-operated permit banks that each receive an allocation based on the fishing history of permits they hold. Allocations in state operated permit banks may be leased to fishermen enrolled in sectors. State-operated permit banks are no longer approved through the sector approval process, but current state-operated permit banks contribute to the total allocation under the sector system.

Sector Operations Plans

Sector operations plans contain the rules under which each sector will fish, and also provide the legal contract that binds each member to the sector for the length of the sector's operations plan. Each sector's operations plan, and each sector's members, must comply with the regulations governing sectors, found at § 648.87. Sectors are also responsible for developing and implementing a monitoring program that meets the requirements at § 648.11(l). For fishing year 2025, sector vessels may choose to use human ASM or the audit model EM program to meet monitoring requirements, provided that the sector has a corresponding monitoring program approved as part of its operations plan.

Prior to the 2025 fishing year, NMFS received sector operations plan submissions from these same sectors. The initial fishing years 2025-2026 operations plans submitted by sectors do not request substantial changes from fishing years 2023-2024 final operations plans. All sectors that harvest fish included a NMFS-approved ASM program or EM program as part of their operations plans. NMFS did not receive any new operations plans for approval for fishing year 2025. As a result, this action approves all 15 sector operations plans on an interim basis for fishing year 2025.

Sector Exemptions

Because sectors elect to receive an allocation under a quota-based system, the Northeast Multispecies FMP grants sector vessels several universal exemptions from the FMP's effort controls. These universal exemptions are codified at § 648.87(c)(2)(ii). Sectors may request additional exemptions annually as part of their sector operations plans to increase flexibility and fishing opportunities. The Northeast Multispecies FMP prohibits sectors from requesting exemptions from permitting restrictions, gear restrictions designed to minimize habitat impacts, and most reporting requirements.

For fishing year 2025, sectors did not request any novel exemptions. NMFS previously granted 18 exemptions for fishing years 2023 and 2024 (88 FR 26502; May 1, 2023). These previously approved exemptions are approved, on an interim basis, for all sectors that requested them in their operations plans.

NMFS may revoke exemptions in-season if: It determines that the exemption jeopardizes management measures, Northeast Multispecies FMP objectives, or rebuilding efforts; the exemption results in unforeseen negative impacts on other managed fish stocks, habitat, or protected resources; the exemption causes enforcement concerns; catch from trips using the exemption cannot be adequately monitored; or a sector is not meeting certain administrative or operational requirements. If it becomes necessary to revoke an exemption, NMFS will do so through a process consistent with the existing regulations or in a separate rulemaking action, as appropriate.

Sector Allocations for Fishing Year 2025

The sector allocations in this rule are based on the interim catch limits implemented by this emergency action. NMFS calculates the sector's allocation for each stock by summing its members' potential sector contributions (PSC) for a stock and then multiplying that total percentage by the available commercial sub-ACL for that stock.

At the time this rule was drafted, sectors had not yet submitted their rosters, and the 2024 sector rosters are the best available information to provide industry with ACE allocation estimates. Any permits that change ownership after the enrollment deadline established by the Regional Administrator retain the ability to join a sector through April 30, 2025. All permit holders who have joined a sector for fishing year 2025 have until April 30, 2025, to withdraw and instead elect to fish in the common pool, although sectors may specify a more restrictive withdrawal date for their members. NMFS will provide sectors with their final interim allocations, to the nearest pound, based on their final May 1 rosters. These interim final allocations, along with later adjustments including ACE transfers, reductions for overages, or increases for carryover, are used to monitor sector catch.

Table 10 shows the preliminary cumulative PSC for each sector, by stock, for fishing year 2025 based on 2024 sector rosters. Tables 11 and 12 show the interim ACEs allocated to each sector, in pounds and metric tons, respectively, for fishing year 2025, based on their fishing year 2024 rosters. The interim common pool sub-ACLs are also included in tables 11 and 12 for comparison.

Instead of assigning separate PSCs for Eastern GB cod or Eastern GB haddock, a PSC is assigned to each permit for the GB cod stock and GB haddock stock. Each sector's GB cod and GB haddock allocations are then divided into an Eastern ACE and a Western ACE, based on each sector's percentage of the GB cod and GB haddock ACLs. For example, if a sector is allocated 4 percent of the GB cod ACL, the sector is allocated 4 percent of the commercial Eastern GB cod TAC as its Eastern GB cod. The Eastern GB haddock allocations are determined in the same way. These amounts are then subtracted from the sector's overall GB cod and haddock allocations to determine its Western GB cod and haddock ACEs. A sector may only harvest its Eastern GB cod and haddock ACEs in the Eastern U.S./Canada Area.

Each sector is required to ensure that it does not exceed its ACE during the fishing year. Sector vessels are required to retain all legal-sized allocated Northeast multispecies stocks, unless a sector is granted an exemption allowing its member vessels to discard legal-sized unmarketable fish at sea. Catch (defined as landings and discards) of all allocated Northeast multispecies stocks by a sector's vessels counts against the sector's allocation. Groundfish catch from a sector trip targeting non-groundfish species will be deducted from the sector's ACE because these are groundfish trips using gear capable of catching groundfish. Catch from a non-sector trip in an exempted fishery does not count against a sector's allocation and is assigned to a separate ACL sub-component to account for any groundfish bycatch that occurs in non-groundfish fisheries.

BILLING CODE 3510-22-P

Interim Possession Limits for Fishing Year 2025

This action also temporarily implements common pool possession limits and trip limits for groundfish stocks because the measures set pursuant to Regional Administrator authority for fishing year 2024 expire on April 30, 2025 (see table 13). Without setting new measures commensurate with the interim fishing year 2025 ACLs that are implemented by this action, the fishery would default to measures that could allow overfishing.

BILLING CODE 3510-22-C

Closed Area II Yellowtail Flounder/Haddock Special Access Program

The Regional Administrator is authorized, at § 648.85(b)(vii), to determine the total number of common pool trips that may be declared into the Closed Area II Yellowtail Flounder/Haddock Special Access Program (SAP) to target yellowtail flounder. This action temporarily allocates zero trips for common pool vessels to target yellowtail flounder within the Closed Area II Yellowtail Flounder/Haddock SAP for fishing year 2025. As a result, this SAP is temporarily open only to target haddock. The SAP season will open August 1, 2025. Northeast multispecies vessels fishing in the SAP must fish with a haddock separator trawl, a Ruhle trawl, or hook gear.

The Regional Administrator determines the allocation of the total number of trips into the Closed Area II Yellowtail Flounder/Haddock SAP based on several criteria, including the GB yellowtail flounder catch limit and the amount of GB yellowtail flounder caught outside of the SAP. Allocating trips to target yellowtail flounder in the Closed Area II Yellowtail Flounder/Haddock SAP is discretionary if the available GB yellowtail flounder catch is insufficient to support at least 150 trips with a 15,000-lb (6,804-kg) trip limit, for a total catch of 2,250,000 lb (1,020,600 kg). This calculation considers projected catch from all vessels from the area outside the SAP. Based on the fishing year 2025 GB yellowtail flounder groundfish sub-ACL temporarily implemented by this action of 123,458.9 lb (56,000 kg), there is insufficient GB yellowtail flounder to allocate any trips to the SAP. Further, given the low GB yellowtail flounder catch limit, catch rates outside of this SAP are more than adequate to fully harvest the 2025 GB yellowtail flounder allocation.

If approved, Framework Adjustment 69 would increase the 2025 GB yellowtail flounder sub-ACL from the amount implemented by this action. However, the size of that increase is not substantial. As a result, NMFS does not expect the final rule implementing Framework 69, if approved, to change the determination to allocate no trips to the SAP to target yellowtail flounder.

Regular B DAS Program

The Regional Administrator is authorized, at § 648.85(b)(6)(vi), to close the Regular B DAS program by prohibiting the use of Regular B DAS when the continuation of the program would undermine the achievement of the objectives of the Northeast Multispecies FMP or the Regular B DAS Program. One reason for terminating the program is an inability to constrain common pool catches to the Incidental Catch TACs.

This action implements Common Pool Incidental Catch TACs for the Regular B DAS Program for the 2025 fishing year (table 8). These TACs are further divided into Quarterly Incidental Catch TACs (table 9) to be monitored and managed during each calendar quarter.

Given that the Incidental Catch TACs allocated to the Regular B DAS Program for several stocks are very small, in-season management of the Regular B DAS Program is likely to be extremely difficult and impractical. Implementation of an in-season action to close the Regular B DAS Program once a Quarterly Incidental Catch TAC for a stock has been reached would not be possible to complete quickly enough to prevent further catch of that stock.

As a result, it is unlikely that catch can be effectively limited to the Incidental Catch TACs during fishing year 2025, and operation of the program during the emergency rule period would undermine the achievement of the objectives of the Northeast Multispecies FMP and the Regular B DAS Program. This action temporarily closes the Regular B DAS Program and temporarily prohibits use of Regular B DAS. This applies to all vessels issued a limited access Northeast multispecies permit.

Justification for Emergency Action

NMFS' policy guidelines for the use of emergency rules (62 FR 44421; August 21, 1997) specify the following 3 criteria for emergency actions: (1) The emergency results from recent, unforeseen events or recently discovered circumstances; (2) the emergency presents serious conservation or management problems in the fishery; and (3) the emergency can be addressed through emergency regulations for which the immediate benefits outweigh the value of advance notice, public comment, and deliberative consideration of the impacts on participants to the same extent as would be expected under the normal rulemaking process. NMFS' policy guidelines further provide that emergency action is justified for certain situations in which emergency action would prevent significant direct economic loss, or to preserve a significant economic opportunity that otherwise might be foregone. NMFS has determined that an emergency exists that requires establishing fishery management measures for the fishing year beginning May 1, 2025, to prevent economic loss and preserve economic opportunity for the groundfish fishery for the reasons outlined below.

The Emergency Results From Recent, Unforeseen Events or Recently Discovered Circumstances

Amendment 25 and Framework 69 were developed in close coordination as part of the Council's Atlantic Cod Management Transition Plan. This plan was designed to result in a coordinated decision making for Amendment 25 and Framework 69 to be considered in time for approval or disapproval before the beginning of fishing year 2025. NMFS anticipated the development of these actions would proceed in accordance with the plan. It was not possible to complete the process for both Amendment 25 and Framework 69 to the Northeast Multispecies FMP sooner because of the required notice and comment period prior to approval or disapproval. The Magnuson-Stevens Act requires a 60-day public comment period on a proposed amendment and requires that the Secretary inform the Council of the decision to approve, partially approve, or disapprove the amendment within 30 days of the end of that comment period. The Amendment 25 comment period ends on May 5, 2025. NMFS cannot render a final decision on the amendment, or on Framework 69, prior to this date. Therefore, it was not possible to approve these actions in time for the start of the Northeast multispecies fishing year on May 1, 2025. In the absence of Framework 69's specifications and other measures, vessels enrolled in groundfish sectors, which comprise the vast majority of the commercial groundfish fleet, would not be authorized to fish when the fishing year begins on May 1 without emergency action. Recreational fishery and common pool measures in this action also are necessary to allow those fisheries to operate while preventing overfishing of Atlantic cod.

The Emergency Presents Serious Conservation or Management Problems in the Fishery

Without implementation of specifications and their accompanying allocations, there would be no allocations for GOM cod and GB cod, which would prevent commercial and recreational fishery access to Atlantic cod and other groundfish species. This action is intended to mitigate significant economic harm and prevent overfishing by establishing ACLs, approving Northeast multispecies sector operations plans and allocating ACEs that allow the sector fishery to operate during the 2025 fishing year, and setting recreational and commercial common pool trip limits and prohibitions necessary to prevent overfishing. Without these provisions, vessels enrolled in sectors (responsible for 96 percent of commercial groundfish catch) would be unable to fish during the 2025 fishing year, which would result in substantial adverse economic impacts on vessel owners and operators, dealers, and the fishing communities that rely on them. Recreational fishery and common pool measures in this action are necessary to allow those fisheries to operate while preventing overfishing of Atlantic cod.

The Emergency Can Be Addressed Through Emergency Regulations for Which the Immediate Benefits Outweigh the Value of Advanced Notice, Public Comment, and Deliberative Consideration of the Impacts on Participants to the Same Extent as Would Be Expected Under the Normal Rulemaking Process

This action is required to temporarily implement specifications that could remain in effect for up to 180 days from May 1, 2025, through October 31, 2025, unless replaced prior to, or extended past, October 31, 2025, by another action. This action is intended to mitigate significant economic harm and prevent overfishing, and allow for the normal rulemaking processes for Amendment 25 and Framework 69 to proceed without prejudicing NMFS' approval or disapproval determinations. The measures implemented by this action will allow the groundfish fishery to operate and avoid substantial adverse economic impacts on vessel owners and operators, dealers, and the fishing communities that rely on them. Recreational fishery and common pool measures in this action are necessary to allow those fisheries to operate and avoid adverse economic impacts on the common pool and recreational communities while preventing overfishing of Atlantic cod.

The immediate benefits of an operational fishery outweigh the value of advance notice, public comment, and deliberative consideration of the impacts on participants. Amendment 25 and Framework 69 are proceeding through the normal rulemaking process. This action is based on scientific determinations for four cod biological stock units and operational equivalent measures for two cod biological stock units that are designed to reflect status quo conditions to the extent practicable during the period this action is in effect. The measures in this action are temporary placeholders that allow an opportunity for full consideration of Amendment 25 and Framework 69. They maintain status quo conditions to the extent practicable that do not undermine or inadvertently preclude approval of Amendment 25 through Framework 69 in whole or in part. These interim measures would either be replaced by any approved measures, or they would be extended or extended with any necessary adjustments in case of disapproval in whole or in part.

Classification

The Acting Assistant Administrator for Fisheries, NOAA, has determined that this rule is necessary to respond to an emergency situation and is consistent with the national standards and other provisions of the Magnuson-Stevens Act and other applicable laws. The rule may be extended for a period of not more than 186 days as provided under section 305(c)(3)(B) of the Magnuson-Stevens Act.

Pursuant to 5 U.S.C. 553(b)(B), the Acting Assistant Administrator for Fisheries, NOAA, finds that it would be impracticable and contrary to the public interest to provide for prior notice and public comment. This emergency action is necessary to relieve restrictions on the fishing industry and mitigate significant economic harm, while also preventing overfishing as required by statute. These temporary measures provide commercial and recreational fisheries, and fishing communities, economic stability, and regulatory predictability on an interim basis. Allowing even a 15-day comment period would delay this action's effective date past the beginning of the fishing year.

Delaying this action beyond May 1 would disrupt commercial and recreational fishing planning and operations, and cause confusion that would be inefficient and detrimental to fishing communities. Any delay in these emergency measures jeopardizes the commercial fishery's ability to operate under the sector system, which constitutes 96 percent of all commercial groundfish catch. A delay would require sector vessels to end any trip at sea and land before May 1. It would require anyone who fishes (including landing a trip presently underway after May 1), even for a single trip before this rule's effective date, to fish under more restrictive common pool limits for the entirety of the fishing year. Measures in this action also facilitate common pool and recreational fishery operations in a manner that prevents overfishing. Furthermore, the government is accepting public comment on this interim emergency action for 30 days from publication and will consider those comments in any future decision to revise or extend this interim emergency action. Given the need to implement these measures at the beginning of the fishing year on May 1 to prevent the serious adverse economic impacts that a delay would cause, the Acting Assistant Administrator for Fisheries, NOAA, finds for good cause that prior notice and the opportunity for public comment would be impracticable and contrary to the public interest.

This rule is not subject to the 30-day delayed effectiveness provision of the Administrative Procedure Act, pursuant to 5 U.S.C. 553(d)(1), because this rule relieves restrictions that would prevent sector fishery members from fishing. To avoid this prohibition, sector members would be required to choose to fish outside the sector system for the entire year. These vessels would lose the numerous regulatory exemptions from effort controls that are granted to vessels fishing under the sector system and that would subject them to more restrictions.

For the same reasons stated above (in the discussion of 5 U.S.C. 553(b)(B)) and the following additional reasons, NOAA also finds good cause to waive the 30-day delay in the effective date, and implement this action immediately upon publication, pursuant to 5 U.S.C. 553(d)(3). Commercial fishing vessel and Federal dealer operations benefit from both continuity and certainty. The sector fishery has operated for fifteen years under the sector system that provides them with well-known regulatory exemptions to restrictions that are provided by this action. Vessels do not need time to prepare for the implementation of this emergency rule, and instead need the immediate implementation of these measures to authorize them to fish consistent with their operations over the last 15 years. Finally, May represents the safest weather for fishing and corresponds with increased seasonal demand for seafood.

This action is being taken pursuant to the emergency provision of the Magnuson-Stevens Act and is exempt from OMB review. This is not a regulatory action pursuant to Executive Order (E.O.) 14192. This temporary rule for an emergency action is exempt from the procedures of the Regulatory Flexibility Act because the rule is issued without opportunity for prior notice and opportunity for public comment.

This temporary rule for an emergency action contains no information collection requirements under the Paperwork Reduction Act of 1995.

I have determined that this action would not have a substantial direct effect on one or more Indian tribes, on the relationship between the Federal Government and Indian tribes, or on the distribution of power and responsibilities between the Federal Government and Indian tribes; therefore, consultation with tribal officials under E.O. 13175 is not required, and the requirements of sections (5)(b) and (5)(c) of E.O. 13175 also do not apply. A tribal summary impact statement under section (5)(b)(2)(B) and section (5)(c)(2)(B) of E.O. 13175 is not required and has not been prepared.

In the interest of receiving public input on this action, the SIR analyzing this action is available to the public (see ADDRESSES) and this temporary rule solicits public comment (see DATES).

List of Subjects in 50 CFR Part 648

Fisheries, Fishing, Recordkeeping and reporting requirements.

Dated: April 28, 2025.
Samuel D. Rauch III,
Deputy Assistant Administrator for Regulatory Programs, National Marine Fisheries Service.

For the reasons stated in the preamble, NMFS amends 50 CFR part 648 as follows:

PART 648—FISHERIES OF THE NORTHEASTERN UNITED STATES

1. The authority citation for part 648 continues to read as follows:

Authority: 16 U.S.C. 1801 et seq.

2. In § 648.14, add paragraph (k)(16)(iii)(C) to read as follows:

§ 648.14 Prohibitions

* * * * *

(k) * * *

(16) * * *

(iii) * * *

(C) If the vessel is a private recreational fishing vessel, fail to comply with the seasonal closure for cod or haddock described in § 648.89(c)(1) or, if the vessel has been issued a charter/party permit or is fishing under charter/party regulations, fail to comply with the seasonal closure for cod or haddock described in § 648.89(c)(2).

* * * * *

3. Amend § 648.89 by revising Table 2 to Paragraph (c)(1)(i), and Table 3 to Paragraph (c)(2) to read as follows:

§ 648.89 Recreational and charter/party vessel restrictions.

* * * * *

(c) * * *

(1) * * *

(i) * * *

Table 2 to Paragraph (c)(1)(i)
Stock | Open season | Possession limit | Closed season
GB Cod | CLOSED | No Retention | All Year.
GOM Cod | September 1-October 31 | 1 | May 1-August 31; November 1-April 30.
GB Haddock | All Year | Unlimited | N/A.
GOM Haddock | May 1-February 28 (or 29); April 1-30 | 15 | March 1-March 31.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
Northern Windowpane Flounder | CLOSED | No retention | All Year.
Southern Windowpane Flounder | CLOSED | No retention | All Year.
Ocean Pout | CLOSED | No retention | All Year.
Atlantic Halibut | See paragraph (c)(3) of this section.
Atlantic Wolffish | CLOSED | No retention | All Year.

* * * * *

(2) * * *

Table 3 to Paragraph (c)(2)
Stock | Open season | Possession limit | Closed season
GB Cod | CLOSED | No Retention | All Year.
GOM Cod | September 1-October 31 | 1 | May 1-August 31. November 1-April 30.
GB Haddock | All Year | Unlimited | N/A.
GOM Haddock | May 1-February 28 (or 29) April 1-30 | 15 | March 1-March 31.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
N Windowpane Flounder | CLOSED | No retention | All Year.
S Windowpane Flounder | CLOSED | No retention | All Year.
Ocean Pout | CLOSED | No retention | All Year.
Atlantic Halibut | See Paragraph (c)(3).
Atlantic Wolffish | CLOSED | No retention | All Year.

* * * * *

[FR Doc. 2025-07635 Filed 4-29-25; 4:15 pm]

BILLING CODE 3510-22-P